NUCLEAR REGULATORY COMMISSION

Advisory Committee on Reactor Safeguards, Subcommittee Meeting on Safeguards and Security; Notice of Meeting

The ACRS Subcommittee on Safeguards and Security will hold a closed meeting on February 21, 2003, NRC Auditorium, 11545 Rockville Pike, Rockville, Maryland.

The entire meeting will be closed to public attendance to protect information classified as national security information pursuant to 5 U.S.C. 552b(c)(1).

The agenda for the subject meeting shall be as follows:

Friday, February 21, 2003—1 p.m. Until the Conclusion of Business

The Subcommittee will hear presentations from the NRC staff and gather information on the NRC staff's proposed guidance for performing risk-informed vulnerability assessments. The purpose of this meeting is to gather information, analyze relevant issues and facts, and formulate proposed positions and actions, as appropriate, for deliberation by the full Committee.

FOR FURTHER INFORMATION CONTACT: Dr. Richard P. Savio (telephone 301/415-7363) between 7:30 a.m. and 4:15 p.m. (EST).

Dated: January 29, 2003.
Sher Bahadur,
Associate Director for Technical Support, ACRS/ACNW.

[FR Doc. 03-2503 Filed 2-3-03; 8:45 am]

BILLING CODE 7590-01-U